DEPARTMENT OF TRANSPORTATION

Federal Aviation Administration

14 CFR Part 71

[Docket No. FAA-2022-0436; Airspace Docket No. 22-ASW-1]

RIN 2120-AA66

Amendment and Establishment of Air Traffic Service (ATS) Routes; South Central United States

AGENCY: Federal Aviation Administration (FAA), DOT.

ACTION: Final rule.

SUMMARY: This action amends VHF Omnidirectional Range (VOR) Federal airways V-198, V-212, V-556, and V-558; amends Area Navigation (RNAV) route T-256; and establishes RNAV route T-466. The FAA is taking this action due to the planned decommissioning of the VOR portion of the Eagle Lake, TX (ELA), VOR/Distance Measuring Equipment (VOR/DME) navigational aid (NAVAID). The Eagle Lake VOR is being decommissioned in support of the FAA's VOR Minimum Operational Network (MON) program.

DATES: Effective date 0901 UTC, December 29, 2022. The Director of the Federal Register approves this incorporation by reference action under 1 CFR part 51, subject to the annual revision of FAA Order JO 7400.11 and publication of conforming amendments.

ADDRESSES: FAA Order JO 7400.11G, Airspace Designations and Reporting Points, and subsequent amendments can be viewed online at www.faa.gov/air_traffic/publications/. For further information, you can contact the Rules and Regulations Group, Federal Aviation Administration, 800 Independence Avenue SW, Washington, DC 20591; telephone: (202) 267-8783.

FOR FURTHER INFORMATION CONTACT: Colby Abbott, Rules and Regulations Group, Office of Policy, Federal Aviation Administration, 800 Independence Avenue SW, Washington, DC 20591; telephone: (202) 267-8783.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of the airspace necessary to ensure the safety of aircraft and the efficient use of airspace. This regulation is within the scope of that authority as it modifies the route structure as necessary to preserve the safe and efficient flow of air traffic within the National Airspace System.

History

The FAA published a notice of proposed rulemaking for Docket No. FAA-2022-0436 in the Federal Register (87 FR 24905; April 27, 2022), amending VOR Federal airways V-198, V-212,V-556, and V-558; amending RNAV route T-256; and establishing RNAV routeT-466. The proposed amendment and establishment actions were due to the planned decommissioning of the VOR portion of the Eagle Lake, TX, VOR/DME NAVAID. Interested parties were invited to participate in this rulemaking effort by submitting written comments on the proposal. No comments were received.

VOR Federal airways are published in paragraph 6010(a) and United States Area Navigation Routes are published in paragraph 6011 of FAA Order JO 7400.11G, dated August 19, 2022, and effective September 15, 2022, which is incorporated by reference in 14 CFR 71.1. The Air Traffic Service (ATS) routes listed in this document will be published subsequently in FAA Order JO 7400.11.

Availability and Summary of Documents for Incorporation by Reference

This document amends FAA Order JO 7400.11G, Airspace Designations and Reporting Points, dated August 19, 2022, and effective September 15, 2022. FAA Order JO 7400.11G is publicly available as listed in the ADDRESSES section of this document. FAA Order JO 7400.11G lists Class A, B, C, D, and E airspace areas, air traffic service routes, and reporting points.

The Rule

This action amends 14 CFR part 71 by amending VOR Federal airways V-198, V-212, V-556, and V-558; amending RNAV route T-256; and establishing RNAV route T-466 due to the planned decommissioning of the Eagle Lake, TX, VOR. The ATS route actions are described below.

V-198: V-198 extends between the San Simon, AZ, VOR/Tactical Air Navigation (VORTAC) and the Eagle Lake, TX, VOR/DME; and between the Sabine Pass, TX, VOR/DME and the Craig, FL, VORTAC. The route segment between the San Antonio, TX, VORTAC and the Eagle Lake, TX, VOR/DME is removed. As amended, the airway is changed to extend between the San Simon, AZ, VORTAC and the San Antonio, TX, VORTAC; and between the Sabine Pass, TX, VOR/DME and the Craig, FL, VORTAC.

V-212: V-212 extends between the San Antonio, TX, VORTAC and the Mc Comb, MS, VORTAC. The airway segment between the San Antonio, TX, VORTAC and the Industry, TX, VORTAC is removed. As amended, the airway is changed to extend between the Industry, TX, VORTAC and the Mc Comb, MS, VORTAC.

V-556: V-556 extends between the San Angelo, TX, VORTAC and the Sabine Pass, TX, VOR/DME. The airway segment between the Stonewall, TX, VORTAC and the Scholes, TX, VOR/DME is removed. As amended, the airway is changed to extend between the San Angelo, TX, VORTAC and the Stonewall, TX, VORTAC; and between the Scholes, TX, VOR/DME and the Sabine Pass, TX, VOR/DME.

V-558: V-558 extends between the Llano, TX, VORTAC and the Eagle Lake, TX, VOR/DME. The airway segment between the Industry, TX, VORTAC and the Eagle Lake, TX, VOR/DME is removed. As amended, the airway is changed to extend between Llano, TX, VORTAC and the Industry, TX, VORTAC.

T-256: T-256 extends between the San Antonio, TX, VORTAC and the Sabine, TX, VOR/DME. The Eagle Lake, TX, VOR/DME route point is removed from the description as it is on a straight segment of the route and does not change the route structure between the San Antonio, TX, VORTAC and the MOLLR, TX, waypoint (WP). Additionally, a RNAV route segment overlaying V-194 is added between the Sabine, TX, VOR/DME and the DAFLY, LA, WP being established near the Lafayette, LA, VORTAC. The full route description is listed in the amendments to part 71 set forth below.

T-466: T-466 is a new RNAV route that extends between the San Angelo, TX, VORTAC and the Sabine Pass, TX, VOR/DME. The new T-466 overlays the V-556 airway and, in part, mitigates the removal of the V-556 segment between the Stonewall, TX, VORTAC and the Scholes, TX, VOR/DME; providing RNAV routing between the San Angelo, TX, area southeastward to the Galveston, TX, area and then northeastward to the Beaumont, TX, area. The full route description is listed in the amendments to part 71 set forth below.

All NAVAID radials listed in the VOR Federal airway descriptions below are unchanged and stated in True degrees.

FAA Order JO 7400.11, Airspace Designations and Reporting Points, is published yearly and effective on September 15.

Regulatory Notices and Analyses

The FAA has determined that this regulation only involves an established body of technical regulations for which frequent and routine amendments are necessary to keep them operationally current. It, therefore: (1) is not a “significant regulatory action” under Executive Order 12866; (2) is not a “significant rule” under Department of Transportation (DOT) Regulatory Policies and Procedures (44 FR 11034; February 26, 1979); and (3) does not warrant preparation of a regulatory evaluation as the anticipated impact is so minimal. Since this is a routine matter that will only affect air traffic procedures and air navigation, it is certified that this rule, when promulgated, will not have a significant economic impact on a substantial number of small entities under the criteria of the Regulatory Flexibility Act.

Environmental Review

The FAA has determined that this action of amending VOR Federal airways V-198, V-212, V-556, and V-558; amending RNAV route T-256; and establishing RNAV route T-466, due to the planned decommissioning of the VOR portion of the Eagle Lake, TX, VOR/DME NAVAID, qualifies for categorical exclusion under the National Environmental Policy Act (42 U.S.C. 4321 et seq.) and its implementing regulations at 40 CFR part 1500, and in accordance with FAA Order 1050.1F, Environmental Impacts: Policies and Procedures, paragraph 5-6.5a, which categorically excludes from further environmental impact review rulemaking actions that designate or modify classes of airspace areas, airways, routes, and reporting points (see 14 CFR part 71, Designation of Class A, B, C, D, and E Airspace Areas; Air Traffic Service Routes; and Reporting Points) and paragraph 5-6.5i, which categorically excludes from further environmental impact review the establishment of new or revised air traffic control procedures conducted at 3,000 feet or more above ground level (AGL); procedures conducted below 3,000 feet AGL that do not cause traffic to be routinely routed over noise sensitive areas; modifications to currently approved procedures conducted below 3,000 feet AGL that do not significantly increase noise over noise sensitive areas; and increases in minimum altitudes and landing minima. As such, this action is not expected to result in any potentially significant environmental impacts. In accordance with FAA Order 1050.1F, paragraph 5-2 regarding Extraordinary Circumstances, the FAA has reviewed this action for factors and circumstances in which a normally categorically excluded action may have a significant environmental impact requiring further analysis. The FAA has determined that no extraordinary circumstances exist that warrant preparation of an environmental assessment or environmental impact study.

List of Subjects in 14 CFR Part 71

Airspace, Incorporation by reference, Navigation (air).

The Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for 14 CFR part 71 continues to read as follows:

Authority: 49 U.S.C. 106(f), 106(g); 40103, 40113, 40120; E.O. 10854, 24 FR 9565, 3 CFR, 1959-1963 Comp., p. 389.

§ 71.1 [Amended]

2. The incorporation by reference in 14 CFR 71.1 of FAA Order JO 7400.11G, Airspace Designations and Reporting Points, dated August 19, 2022, and effective September 15, 2022, is amended as follows:

Paragraph 6010(a) Domestic VOR Federal Airways.

* * * * *

V-198 [Amended]

From San Simon, AZ; Columbus, NM; El Paso, TX; 6 miles wide INT El Paso 109° and Hudspeth, TX, 287° radials; 6 miles wide Hudspeth; 29 miles, 38 miles 82 MSL INT Hudspeth 109° and Fort Stockton, TX, 284° radials; 18 miles 82 MSL Fort Stockton; 20 miles, 116 miles 55 MSL Junction, TX; to San Antonio, TX. From Sabine Pass, TX; White Lake, LA; Tibby, LA; Harvey, LA; 69 miles, 33 miles 25 MSL Brookley, AL; INT Brookley 056° and Crestview, FL, 266° radials; Crestview; Marianna, FL; Seminole, FL; Greenville, FL; Taylor, FL; INT Taylor 093° and Craig, FL, 287° radials; to Craig.

* * * * *

V-212 [Amended]

From Industry, TX; Navasota, TX; INT Navasota 019° and Lufkin, TX, 250° radials; Lufkin; Alexandria, LA; to Mc Comb, MS.

* * * * *

V-556 [Amended]

From San Angelo, TX; INT San Angelo 181° and Junction, TX, 310° radials; Junction; to Stonewall, TX. From Scholes, TX; to Sabine Pass, TX.

* * * * *

V-558 [Amended]

From Llano, TX; INT Llano 088° and Centex, TX, 306° radials; Centex; to Industry, TX.

* * * * *

Paragraph 6011 United States Area Navigation Routes.

* * * * *

T-256 San Antonio, TX (SAT) to DAFLY, LA [Amended]
San Antonio, TX (SAT) | VORTAC | (Lat. 29°38′38.51″ N, long. 098°27′40.74″ W)
MOLLR, TX | WP | (Lat. 29°39′20.23″ N, long. 095°16′35.83″ W)
Sabine Pass, TX (SBI) | VOR/DME | (Lat. 29°41′12.19″ N, long. 094°02′16.72″ W)
DAFLY, LA | WP | (Lat. 30°11′37.70″ N, long. 091°59′33.94″ W)
* * * * * * *
T-466 San Angelo, TX (SJT) to Sabine Pass, TX (SBI) [New]
San Angelo, TX (SJT) | VORTAC | (Lat. 31°22′29.84″ N, long. 100°27′17.53″ W)
CHILD, TX | WP | (Lat. 31°03′41.17″ N, long. 100°27′40.62″ W)
Junction, TX (JCT) | VORTAC | (Lat. 30°35′52.88″ N, long. 099°49′02.93″ W)
BETTI, TX | FIX | (Lat. 29°57′54.97″ N, long. 098°03′23.98″ W)
MARCS, TX | FIX | (Lat. 29°53′52.04″ N, long. 097°51′40.70″ W)
SEEDS, TX | FIX | (Lat. 29°39′31.94″ N, long. 097°14′58.66″ W)
LDRET, TX | WP | (Lat. 29°39′44.93″ N, long. 096°19′00.96″ W)
KEEDS, TX | WP | (Lat. 29°21′59.49″ N, long. 095°36′48.98″ W)
Scholes, TX (VUH) | VOR/DME | (Lat. 29°16′09.60″ N, long. 094°52′03.81″ W)
Sabine Pass, TX (SBI) | VOR/DME | (Lat. 29°41′12.19″ N, long. 094°02′16.72″ W)

Issued in Washington, DC, on October 5, 2022.
Scott M. Rosenbloom,
Manager, Airspace Rules and Regulations.

[FR Doc. 2022-22164 Filed 10-26-22; 8:45 am]

BILLING CODE 4910-13-P